DEPARTMENT OF JUSTICE

Antitrust Division

Notice Pursuant to the National Cooperative Research and Production Act of 1993—Mobile Enterprise Alliance, Inc.

Notice is hereby given that, on June 24, 2004, pursuant to section 6(a) of the National Cooperative Research and Production Act of 1993, 15 U.S.C. 4301 et seq. (“the Act”), Mobile Enterprise Alliance, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Citrix Systems, Inc., Fort Lauderdale, FL; Everypath, Santa Clara, CA; Fiberlink Communications, Blue Bell, PA; Inmarsat Ltd., London, United Kingdom; Intel Corporation, Santa Clara, CA; Symbian Ltd., London, United Kingdom; and Telefonica Data USA, Inc., Miami, FL.

The nature and objectives of the venture are (a) to promote the use, sale and adoption of mobile computing and communications technologies, architectures, methodologies, services and solutions (“Mobile Enterprise Products”) in business, government and enterprise markets (“Enterprise Markets”); (b) to provide education to Enterprise Markets about Mobile Enterprise Products; to promote such Mobile Enterprise Products and other solutions worldwide; (c) to develop and implement a Communications Plan to provide this education on a worldwide basis; (d) to develop and promote third-party information and events focused on Mobile Enterprise Products and their use in Enterprise Markets; (e) to operate an awards program recognizing individual enterprise organizations for successful adaptation of Mobile Enterprise Products to business processes; and (f) to undertake such other activities as may from time to time be appropriate to further the purposes and achieve the goals set forth above.

Dororthy B. Fountain,
Deputy Director of Operations, Antitrust Division.

[FR Doc. 04-16862 Filed 7-22-04; 8:45 am]

BILLING CODE 4410-11-M